DEPARTMENT OF AGRICULTURE

Agricultural Marketing Service

7 CFR Part 991

[Docket No. AO-F&V-991-A3; FV03-991-01]

Hops Produced in Washington, Oregon, Idaho and California; Postponement of Hearing on Proposed Marketing Agreement and Order No. 991

AGENCY: Agricultural Marketing Service, USDA.

ACTION: Notice of postponement of public hearing on proposed marketing agreement and order.

SUMMARY: The public hearing scheduled to consider a proposed marketing agreement and order under the Agricultural Marketing Agreement Act of 1937 to cover hops grown in Washington, Oregon, Idaho and California has been postponed until after October 1, 2003. The notice of public hearing was announced in the Federal Register on Monday, July 28, 2003, at 68 FR 44244. Another notice will be published announcing the new hearing dates.

FOR FURTHER INFORMATION CONTACT: Barry Broadbent, Marketing Specialist, Marketing Order Administration Branch, Fruit and Vegetable Programs, AMS, USDA, Northwest Marketing Field Office, 1220 SW. Third Avenue, room 369, Portland, Oregon 97204; telephone (503) 326-2724 or Fax (503) 326-7440; or Kathleen M. Finn, Marketing Order Administration Branch, Fruit and Vegetable Programs, AMS, USDA, 1400 Independence Avenue, SW., Stop 0237, Washington, DC 20250-0237; telephone: (202) 720-2491, fax: (202) 720-8938.

Authority: 7 U.S.C. 601-674.

Dated: August 8, 2003.
A.J. Yates,
Administrator, Agricultural Marketing Service.

[FR Doc. 03-20690 Filed 8-13-03; 8:45 am]

BILLING CODE 3410-02-P